SECURITIES AND EXCHANGE COMMISSION

[Release No. IC-26658]

Notice of Applications for Deregistration Under Section 8(f) of the Investment Company Act of 1940

November 19, 2004.

The following is a notice of applications for deregistration under section 8(f) of the Investment Company Act of 1940 for the month of November, 2004. A copy of each application may be obtained for a fee at the SEC's Public Reference Branch, 450 Fifth St., NW., Washington, DC 20549-0102 (tel. (202) 942-8090). An order granting each application will be issued unless the SEC orders a hearing. Interested persons may request a hearing on any application by writing to the SEC's Secretary at the address below and serving the relevant applicant with a copy of the request, personally or by mail. Hearing requests should be received by the SEC by 5:30 p.m. on December 14, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

MuniInsured Fund, Inc. [File No. 811-5190]

Summary: Applicant, a closed-end investment company, seeks an order declaring that it has ceased to be an investment company. On June 7, 2004, applicant transferred its assets to MuniYield Insured Fund, Inc., based on net asset value. Expenses of $157,426 incurred in connection with the reorganization were paid by the acquiring fund.

Filing Date: The application was filed on October 29, 2004.

Applicant's Address: Merrill Lynch Investment Managers, L.P., 800 Scudders Mill Rd., Plainsboro, NJ 08536.

Golden Gate Fund, Inc. [File No. 811-9925]

Summary: Applicant seeks an order declaring that it has ceased to be an investment company. By October 25, 2004, all shareholders of applicant had redeemed their shares at net asset value. Expenses of $32,015 incurred in connection with the liquidation were paid by Collins & Company, LLC, applicant's investment adviser.

Filing Date: The application was filed on October 29, 2004.

Applicant's Address: 100 Larkspur Landing Circle, Suite 102, Larkspur, CA 94939.

BMO Partners Fund, L.P. [File No. 811-9935]

Summary: Applicant, a closed-end investment company, seeks an order declaring that it has ceased to be an investment company. Applicant has never made a public offering of its securities and does not propose to make a public offering. Applicant will continue to operate as a private investment company in reliance on section 3(c)(1) of the Act.

Filing Dates: The application was filed on October 5, 2004, and amended on November 12, 2004.

Applicant's Address: 360 Madison Ave., 20th Floor, New York, NY 10017.

Merriman Investment Trust [File No. 811-5487]

Summary: Applicant seeks an order declaring that it has ceased to be an investment company. On September 15, 2004, all shareholders of applicant had redeemed their shares at net asset value. Expenses of $28,798 incurred in connection with the liquidation were paid by applicant and Merriman Capital Management, Inc., applicant's investment adviser.

Filing Dates: The application was filed on October 19, 2004, and amended on November 12, 2004.

Applicant's Address: 1200 Westlake Ave. N, Suite 700, Seattle, WA 98109.

Nations Government Income Term Trust 2004, Inc. [File No. 811-8192]

Summary: Applicant, a closed-end investment company, seeks an order declaring that it has ceased to be an investment company. On March 31, 2004, applicant made a final liquidating distribution to its shareholders, based on net asset value. Expenses of $10,098 incurred in connection with the liquidation were paid by applicant. PFPC, applicant's transfer agent, holds $138,760 in cash for shareholders who have not been located. PFPC will hold the unclaimed assets for a period of three years, after which time any unclaimed assets will escheat to the State of Maryland. Applicant also has retained $4,154 in cash to cover unpaid liabilities and expenses.

Filing Dates: The application was filed on October 20, 2004, and amended on November 5, 2004.

Applicant's Address: One Bank of America Plaza, 101 South Tryon St., Charlotte, NC 28255.

Nations Balanced Target Maturity Fund, Inc. [File No. 811-8452]

Summary: Applicant, a closed-end investment company, seeks an order declaring that it has ceased to be an investment company. On September 30, 2004, applicant made a final liquidating distribution to its shareholders, based on net asset value. Expenses of $10,075 incurred in connection with the liquidation were paid by applicant. PFPC, applicant's transfer agent, holds $212,019 in cash for shareholders who have not been located. PFPC will hold the unclaimed assets for a period of three years, after which time any unclaimed assets will escheat to the State of Maryland. Applicant also has retained $40,007 in cash to cover unpaid liabilities and expenses.

Filing Dates: The application was filed on October 20, 2004, and amended on November 5, 2004.

Applicant's Address: One Bank of America Plaza, 101 South Tryon St., Charlotte, NC 28255.

Nations Government Income Term Trust 2003, Inc. [File No. 811-7926]

Summary: Applicant, a closed-end investment company, seeks an order declaring that it has ceased to be an investment company. On September 30, 2003, applicant made a final liquidating distribution to its shareholders, based on net asset value. Expenses of $10,163 incurred in connection with the liquidation were paid by applicant. PFPC, applicant's transfer agent, holds $141,651 in cash for shareholders who have not been located. PFPC will hold the unclaimed assets for a period of three years, after which time any unclaimed assets will escheat to the State of Maryland.

Filing Dates: The application was filed on October 20, 2004, and amended on November 5, 2004.

Applicant's Address: One Bank of America Plaza, 101 South Tryon St., Charlotte, NC 28255.

American Century Manager Funds [File No. 811-8668]

Summary: Applicant seeks an order declaring that it has ceased to be an investment company. On September 2, 1997, applicant transferred its assets to corresponding series of American Century Strategic Asset Allocations, Inc., based on net asset value. Expenses of $9,897 incurred in connection with the reorganization were paid by American Century Investment Management, Inc., applicant's investment adviser.

Filing Date: The application was filed on October 22, 2004.

Applicant's Address: 4500 Main St., Kansas City, MO 64111.

American Century Capital Preservation Fund, Inc. [File No. 811-2247]

American Century Capital Preservation Fund II, Inc. [File No. 811-3036]

Summary: Each applicant seeks an order declaring that it has ceased to be an investment company. On September 2, 1997, each applicant transferred its assets to a corresponding series of American Century Government Income Trust, based on net asset value. Expenses of $19,794 incurred in connection with each reorganization were paid by American Century Investment Management, Inc., applicants' investment adviser.

Filing Date: The applications were filed on October 22, 2004.

Applicants' Address: 4500 Main St., Kansas City, MO 64111.

American Century Premium Reserves, Inc. [File No. 811-7446]

Summary: Applicant seeks an order declaring that it has ceased to be an investment company. On December 2, 2001, applicant transferred its assets to corresponding series of American Century Investment Trust, based on net asset value. Expenses of $24,157 incurred in connection with the reorganization were paid by American Century Investment Management, Inc., applicant's investment adviser.

Filing Date: The application was filed on October 22, 2004.

Applicant's Address: 4500 Main St., Kansas City, MO 64111.

American Tax-Exempt Bond Trust, Series 1 [File No. 811-2457]

Summary: Applicant, a unit investment trust, seeks an order declaring that it has ceased to be an investment company. On October 6, 2003, applicant made a liquidating distribution to its shareholders, based on net asset value. Applicant incurred no expenses in connection with the liquidation.

Filing Dates: The application was filed on August 9, 2004, and amended on October 26, 2004.

Applicant's Address: c/o B.C. Ziegler and Company, 250 East Wisconsin Ave., Milwaukee, WI 53202.

The Insured American Tax-Exempt Bond Trust, Series 1 [File No. 811-4026]

Summary: Applicant, a unit investment trust, seeks an order declaring that it has ceased to be an investment company. On August 2, 2000, applicant made a liquidating distribution to its shareholders, based on net asset value. Applicant incurred no expenses in connection with the liquidation.

Filing Dates: The application was filed on August 23, 2004, and amended on October 26, 2004.

Applicant's Address: c/o B.C. Ziegler and Company, 250 East Wisconsin Ave., Milwaukee, WI 53202.

EACM Select Managers Equity Fund [File No. 811-9112]

Summary: Applicant seeks an order declaring that it has ceased to be an investment company. On October 6, 2004, applicant made a liquidating distribution to its shareholders, based on net asset value. Expenses of $106,406 incurred in connection with the liquidation were paid by Evaluation Associates Capital Markets, Inc., applicant's investment adviser. Applicant has retained approximately $32,223 to cover outstanding liabilities.

Filing Date: The application was filed on October 15, 2004.

Applicant's Address: 200 Connecticut Ave., Sixth Floor, Norwalk, CT 06854-1958.

Eureka Funds [File No. 811-8305]

Summary: Applicant seeks an order declaring that it has ceased to be an investment company. On September 10, 2004, applicant made a final liquidating distribution to its shareholders, based on net asset value. Expenses of $468,000 incurred in connection with the liquidation were paid by Bank of the West, the parent company of applicant's investment adviser.

Filing Date: The application was filed on October 14, 2004.

Applicant's Address: 3435 Stelzer Rd., Columbus, OH 43219.

IDS Life Series Fund, Inc. [File No. 811-4299]

Summary: Applicant seeks an order declaring that it has ceased to be an investment company. On July 9, 2004, applicant transferred its assets to AXP VP-Investment Series, Inc., AXP VP-Income Series, Inc., AXP VP-Managed Series, Inc., and AXP VP-Money Market Series, Inc., based on net asset value. Expenses of $245,518 incurred in connection with the merger were paid by American Express Financial Corporation.

Filing Dates: The application was filed on September 2, 2004 and amended and restated on October 20, 2004.

Applicant's Address: 70100 AXP Financial Center, Minneapolis, MN 55474

For the Commission, by the Division of Investment Management, pursuant to delegated authority.
Margaret H. McFarland,
Deputy Secretary.

[FR Doc. E4-3346 Filed 11-26-04; 8:45 am]

BILLING CODE 8010-01-P